DEPARTMENT OF THE INTERIOR

Bureau of Reclamation

[RR04073000, XXXR4081X3, RX.05940913.7000000]

Glen Canyon Dam Adaptive Management Work Group

AGENCY: Bureau of Reclamation, Interior.

ACTION: Notice of public meeting.

SUMMARY: The Glen Canyon Dam Adaptive Management Work Group (AMWG) makes recommendations to the Secretary of the Interior concerning Glen Canyon Dam operations and other management actions to protect resources downstream of Glen Canyon Dam, consistent with the Grand Canyon Protection Act. The AMWG meets two to three times a year.

DATES: The May 27, 2014, AMWG WebEx/conference call will begin at 12:30 p.m. (EDT), 10:30 a.m. (MDT), and 9:30 a.m. (PDT) and conclude three (3) hours later in the respective time zones. See call-in information in the SUPPLEMENTARY INFORMATION section.

FOR FURTHER INFORMATION CONTACT: Glen Knowles, Bureau of Reclamation, telephone (801) 524-3781; facsimile (801) 524-3858; email at gknowles@usbr.gov.

SUPPLEMENTARY INFORMATION: The Glen Canyon Dam Adaptive Management Program (AMP) was implemented as a result of the Record of Decision on the Operation of Glen Canyon Dam Final Environmental Impact Statement to comply with consultation requirements of the Grand Canyon Protection Act (Pub. L. 102-575) of 1992. The AMP includes a Federal advisory committee, the AMWG, a technical work group, a Grand Canyon Monitoring and Research Center, and independent review panels. The technical work group is a subcommittee of the AMWG and provides technical advice and recommendations to the AMWG.

Agenda: The primary purpose of the conference call will be for the AMWG to review the Glen Canyon Dam Adaptive Management Budget for Fiscal Year 2014 and outyear budget development. There will also be an update on the Long-Term Experimental and Management Plan Environmental Impact Statement. To participate in the WebEx/conference call, please use the following instructions:

1. Go to: https://ucbor.webex.com/ucbor/j.php?MTID=m4243b6d71d49fd4864b1186196b5c1e4.

2. If requested, enter your name and email address.

3. If a password is required, enter the meeting password: AMWG.

4. Click “Join”.

Audio Conference Information

• Phone Number: (866) 917-3895

• Passcode: 6622891

• Meeting Number: 286 320 070

There will be limited ports available, so if you wish to participate, please contact Linda Whetton at (801) 524-3880 to register.

To view a copy of the agenda and documents related to the above meeting, please visit Reclamation's Web site at: http://www.usbr.gov/uc/rm/amp/amwg/mtgs/14may27/index.html. Time will be allowed for any individual or organization wishing to make formal oral comments on the call. To allow for full consideration of information by the AMWG members, written notice must be provided to Glen Knowles, Bureau of Reclamation, Upper Colorado Regional Office, 125 South State Street, Room 6107, Salt Lake City, Utah 84138; telephone (801) 524-3781; facsimile (801) 524-3858; email at gknowles@usbr.gov at least five (5) days prior to the call. Any written comments received will be provided to the AMWG members.

Public Disclosure of Comments

Before including your address, phone number, email address, or other personal identifying information in your comment, you should be aware that your entire comment—including your personal identifying information—may be made publicly available at any time. While you can ask us in your comment to withhold your personal identifying information from public review, we cannot guarantee that we will be able to do so.

Dated: April 24, 2014.
Glen Knowles,
Chief, Adaptive Management Group, Environmental Resources Division, Upper Colorado Regional Office, Salt Lake City, Utah.

[FR Doc. 2014-09933 Filed 4-30-14; 8:45 am]

BILLING CODE 4310-MN-P